DEPARTMENT OF COMMERCE

International Trade Administration

[A-570-967]

Aluminum Extrusions From the People's Republic of China: Final Results of the Expedited Second Sunset Review of the Antidumping Duty Order

AGENCY: Enforcement and Compliance, International Trade Administration, Department of Commerce.

SUMMARY: As a result of this expedited sunset review, the Department of Commerce (Commerce) finds that revocation of the antidumping duty (AD) order on aluminum extrusions from the People's Republic of China (China) would be likely to lead to continuation or recurrence of dumping as indicated in the “Final Results of Sunset Review” section of this notice.

DATES: Applicable July 7, 2022.

FOR FURTHER INFORMATION CONTACT: Carolyn Adie, AD/CVD Operations, Office VI, Enforcement and Compliance, International Trade Administration, U.S. Department of Commerce, 1401 Constitution Avenue NW, Washington, DC 20230; telephone (202) 482-6250.

SUPPLEMENTARY INFORMATION:

Background

On March 1, 2022, Commerce published the notice of initiation of the second sunset review of the AD order on aluminum extrusions from China,¹ pursuant to section 751(c) of the Tariff Act of 1930, as amended (the Act).² In accordance with 19 CFR 351.218(d)(1)(i) and (ii), Commerce received notice of intent to participate in this sunset review from the Aluminum Extrusions Fair Trade Committee (the domestic interested party), within 15 days after the date of publication of the Initiation Notice.³ The domestic interested party claimed interested party status under section 771(9)(E) of the Act and 19 CFR 351.102(b)(29)(vii), as a committee composed of U.S. producers of the domestic like product. The individual committee members claimed interested party status under section 771(9)(C) of the Act and 19 CFR 351.102(b)(29)(v) as U.S. producers of the domestic like product.

¹ See Aluminum Extrusions from the People's Republic of China: Antidumping Duty Order, 76 FR 30650 (May 26, 2011) (Order).

² See Initiation of Five-Year (Sunset) Reviews, 87 FR 11416 (March 1, 2022) (Initiation Notice).

³ See Domestic Interested Party's Letter, “Notice of Intent to Participate in Sunset Review,” dated March 15, 2022.

Commerce received adequate substantive responses to the Initiation Notice from the domestic interested party within the 30-day period specified in 19 CFR 351.218(d)(3)(i).⁴ Commerce received no substantive responses from any respondent interested parties. On April 20, 2022, Commerce notified the U.S. International Trade Commission that it did not receive adequate substantive responses from the respondent interested parties.⁵ As a result, pursuant to section 751(c)(3)(B) of the Act and 19 CFR 351.218(e)(1)(ii)(C)(2), Commerce conducted an expedited (120-day) sunset review of the Order.

⁴ See Domestic Interested Party's Letter, “Substantive Response to Notice of Initiation of Sunset Review,” dated March 30, 2022.

⁵ See Commerce's Letter, “Sunset Reviews Initiated on March 1, 2022,” dated April 20, 2022.

Scope of the Order

The merchandise subject to the Order are aluminum extrusions from China. A full description of the scope of the Order is contained in the Issues and Decision Memorandum.⁶

⁶ See Memorandum, “Issues and Decision Memorandum for the Final Results of the Expedited Second Sunset Review of the Antidumping Duty Order on Aluminum Extrusions from the People's Republic of China,” dated concurrently with, and herby adopted by, this notice (Issues and Decision Memorandum).

Analysis of Comments Received

All issues raised in this SUNSET review are addressed in the Issues and Decision Memorandum. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c) and 752(c) of the Act, Commerce determines that revocation of the Order would be likely to lead to continuation or recurrence of dumping, and the magnitude of the margins of dumping likely to prevail would be weighted-average dumping margins up to 86.01 percent ad valorem.

Administrative Protective Order

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: June 29, 2022.
Ryan Majerus,
Deputy Assistant Secretary for Policy and Negotiations.

Appendix

List of Topics Discussed in the Issues and Decision Memorandum

I. Summary

II. Background

III. Scope of the Order

IV. History of the Order

V. Legal Framework

VI. Discussion of the Issues

1. Likelihood of the Continuation or Recurrence of Dumping

2. Magnitude of the Margins of Dumping Likely to Prevail

VII. Final Results of Expedited Sunset Review

VIII. Recommendation

[FR Doc. 2022-14480 Filed 7-6-22; 8:45 am]

BILLING CODE 3510-DS-P